DEPARTMENT OF VETERANS AFFAIRS

[OMB Control No. 2900-0362]

Proposed Information Collection (Claim Under Loan Guaranty/Claim Form—Adjustable Rate Mortgages); Comment Request

AGENCY: Veterans Benefits Administration, Department of Veterans Affairs.

ACTION: Notice.

SUMMARY: The Veterans Benefits Administration (VBA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments on the information needed to determine the amount owed to a holder of a defaulted VA guaranteed home loan.

DATES: Written comments and recommendations on the proposed collection of information should be received on or before March 24, 2008.

ADDRESSES: Submit written comments on the collection of information through www.Regulations.gov or to Nancy J. Kessinger, Veterans Benefits Administration (20M35), Department of Veterans Affairs, 810 Vermont Avenue, NW., Washington, DC 20420 or e-mail to nancy.kessinger@va.gov. Please refer to “OMB Control No. 2900-0362” in any correspondence. During the comment period, comments may be viewed online through the Federal Docket Management System (FDMS) at www.Regulations.gov.

FOR FURTHER INFORMATION CONTACT: Nancy J. Kessinger at (202) 461-9769 or FAX (202) 275-5947.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Titles:

a. Claim Under Loan Guaranty, VA Form 26-1874.

b. Claim Form—Adjustable Rate Mortgages, VA Form 26-1874a.

OMB Control Number: 2900-0362.

Type of Review: Extension of a currently approved collection.

Abstract:

a. Lenders and holders of VA guaranteed home loans use VA Form 26-1874 as notification to VA of default of such loans.

b. Lenders and holders of VA loans submit VA Form 26-1874a as an attachment to VA Form 26-1874 when filing a claim under the loan guaranty resulting from the termination of an Adjustable Rate Mortgage Loan. The information obtained on both forms is used to determine the amount owed to the holder under the guaranty home loan.

Affected Public: Business or other for profit.

Estimated Annual Burden:

a. VA Form 26-1874—25,806 hours.

b. VA Form 26-1874a—333 hours.

Estimated Average Burden Per Respondent:

a. VA Form 26-1874—60 minutes.

b. VA Form 26-1874a—20 minutes.

Frequency of Response: On occasion.

Estimated Number of Total Respondents:

a. VA Form 26-1874—25,806.

b. VA Form 26-1874a—1,000.

Dated: January 14, 2008.
By direction of the Secretary.
Denise McLamb,
Program Analyst, Records Management Service.

[FR Doc. E8-1085 Filed 1-22-08; 8:45 am]

BILLING CODE 8320-01-P